DEPARTMENT OF TRANSPORTATION

Federal Aviation Administration

14 CFR Part 39

[Docket No. FAA-2013-0213; Directorate Identifier 2012-NM-207-AD]

RIN 2120-AA64

Airworthiness Directives; Learjet Inc. Airplanes

AGENCY: Federal Aviation Administration (FAA), DOT.

ACTION: Notice of proposed rulemaking (NPRM).

SUMMARY: We propose to adopt a new airworthiness directive (AD) for certain Learjet Inc. Model 45 airplanes. This proposed AD was prompted by a report that the fire barrier seal on the external baggage door does not seal the surrounding door structure due to incorrect positioning of the barrier. This proposed AD would require modifying the fire seal on the baggage door, including doing inspections of the fire seal for correct contact and corrective action if necessary. We are proposing this AD to prevent improper sealing of the baggage door, which could increase the risk of an uncontained fire in the baggage compartment.

DATES: We must receive comments on this proposed AD by May 13, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Learjet, Inc., One Learjet Way, Wichita, KS 67209-2942; telephone 316-946-2000; fax 316-946-2220; email ac.ict@aero.bombardier.com; Internet http://www.bombardier.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received and other information. The street address for the Docket Office (phone: 800-647-5527) is in the ADDRESSES section. Comments will be available in the AD docket shortly after receipt.

FOR FURTHER INFORMATION CONTACT: Adam Neubauer, Aerospace Engineer, Airframe Branch, ACE-118W, FAA, Wichita Aircraft Certification Office, 1801 Airport Road, Room 100, Mid-Continent Airport, Wichita, Kansas 67209; phone: 316-946-4156; fax: 316-946-4107; email: adam.neubauer@faa.gov.

SUPPLEMENTARY INFORMATION:

Comments Invited

We invite you to send any written relevant data, views, or arguments about this proposal. Send your comments to an address listed under the ADDRESSES section. Include “Docket No. FAA-2013-0213; Directorate Identifier 2012-NM-207-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report that the fire barrier seal on the external baggage door does not seal the surrounding door structure due to incorrect positioning of the barrier. Further investigation revealed that there is a deficiency in the original design of the door which does not allow correct positioning of the fire barrier seal against the baggage door opening. This condition, if not corrected, could result in the increased risk of an uncontained fire in the baggage compartment.

Relevant Service Information

We reviewed Bombardier Service Bulletins 40-25-25 and 45-25-35, both Revision 3, both dated February 6, 2012. The service information describes procedures for modifying the fire barrier seal on the baggage door, including doing a general visual inspection of the fire seal for correct contact, and corrective actions if necessary. The modification includes, among other things, modifying the existing bracket assembly and installing an adjustable clip on the bracket. The corrective actions include adjusting the door clip and seal retainer and adjusting the seal.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 342 airplanes of U.S. registry.

We estimate the following costs to comply with this proposed AD:

Estimated Costs
Action | Labor cost | Parts cost | Cost per product | Cost on U.S. operators
Modification | 11 work-hours × $85 per hour = $935 | $453 | $1,388 | $474,696

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Learjet Inc.: Docket No. FAA-2013-0213; Directorate Identifier 2012-NM-207-AD.

(a) Comments Due Date

We must receive comments by May 13, 2013.

(b) Affected ADs

None.

(c) Applicability

This AD applies to Learjet Model 45 airplanes, certificated in any category, serial numbers 45-002 through 45-380 inclusive, 45-382 through 45-396 inclusive, 45-398 through 45-405 inclusive; and 45-2001 through 45-2114 inclusive, 45-2116, 45-2118, 45-2120, 45-2122, and 45-2124 through 45-2126 inclusive.

(d) Subject

Joint Aircraft System Component (JASC)/Air Transport Association (ATA) of America Code 25: Equipment/Furnishings.

(e) Unsafe Condition

This AD was prompted by a report that the fire barrier seal on the external baggage door does not seal the surrounding door structure due to incorrect positioning of the barrier. We are issuing this AD to prevent improper sealing of the baggage door, which could increase the risk of an uncontained fire in the baggage compartment.

(f) Compliance

Comply with this AD within the compliance times specified, unless already done.

(g) Modification

Within 300 flight hours after the effective date of this AD: Modify the fire seal on the baggage door, including doing general visual inspections of the fire seal for correct contact and all applicable corrective actions, in accordance with the Accomplishment Instructions of Bombardier Service Bulletin 40-25-25 or Bombardier Service Bulletin 45-25-35, both Revision 3, both dated February 6, 2012, as applicable. Do all applicable corrective actions before further flight.

(h) Credit for Previous Actions

This paragraph provides credit for the actions required by paragraph (g) of this AD, if those actions were performed before the effective date of this AD using: Bombardier Service Bulletin 40-25-25, Revision 1, dated August 23, 2010, or Revision 2, dated February 21, 2011; or Bombardier Service Bulletin 45-25-35, Revision 1, dated August 23, 2010, or Revision 2, dated February 21, 2011 (which are not incorporated by reference in this AD).

(i) Parts Installation Limitation

As of the effective date of this AD, no person may install any part identified in paragraph 2.B., “Identification Table,” of Bombardier Service Bulletin 40-25-25 or Bombardier Service Bulletin 45-25-35, both Revision 3, both dated February 6, 2012, on any airplane, unless the actions specified in paragraph (g) of this AD are done concurrently with the installation.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

(1) For more information about this AD, contact Adam Neubauer, Aerospace Engineer, Airframe Branch, ACE-118W, FAA, Wichita Aircraft Certification Office, 1801 Airport Road, Room 100, Mid-Continent Airport, Wichita, Kansas 67209; phone: 316-946-4156; fax: 316-946-4107; email: adam.neubauer@faa.gov.

(2) For service information identified in this AD, contact Learjet, Inc., One Learjet Way, Wichita, KS 67209-2942; telephone 316-946-2000; fax 316-946-2220; email ac.ict@aero.bombardier.com; Internet http://www.bombardier.com.

You may review copies of the referenced service information at the FAA, Transport Airplane Directorate, 1601 Lind Avenue SW., Renton, Washington. For information on the availability of this material at the FAA, call 425-227-1221.

Issued in Renton, Washington, on March 20, 2013.
Jeffrey E. Duven,
Acting Manager, Transport Airplane Directorate, Aircraft Certification Service.

[FR Doc. 2013-07039 Filed 3-26-13; 8:45 am]

BILLING CODE 4910-13-P